DEPARTMENT OF THE INTERIOR

Fish and Wildlife Service

50 CFR Part 17

[FXES1111090FEDR-245-FF09E21000]

Endangered and Threatened Wildlife and Plants; Three Species Not Warranted for Listing as Endangered or Threatened Species; Correction

AGENCY: Fish and Wildlife Service, Interior.

ACTION: Notification of findings; correction.

SUMMARY: On June 20, 2024, we published a notification of findings regarding three species not warranted for listing as endangered or threatened species under the Endangered Species Act of 1973, as amended. The notification of findings contained a table with incorrect docket numbers in the ADDRESSES section. This document corrects those docket numbers.

DATES: June 26, 2024.

FOR FURTHER INFORMATION CONTACT:

Species | Contact information
Kiamichi crayfish | Ken Collins, Field Office Supervisor, Oklahoma Ecological Services Field Office, 918-382-4504, ken_collins@fws.gov.
Rio Grande chub and Rio Grande sucker | Shawn Sartorius, Field Supervisor, New Mexico Ecological Services Office, 505-346-2525, shawn_sartorius@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document corrects the docket numbers presented in the table in the ADDRESSES section of our notification of findings published on June 20, 2024, at 89 FR 51864. The complete ADDRESSES section, including the corrected table, appears below under ADDRESSES in this document.

Corrections

In the Federal Register of June 20, 2024, in FR Doc. 2024-13617 on page 51864, in the third column, correct the ADDRESSES section to read:

ADDRESSES: Detailed descriptions of the bases for the findings published on June 20, 2024, at 89 FR 51864 are available on the internet at https://www.regulations.gov under the following docket numbers:

Species | Docket No.
Kiamichi crayfish (Faxonius saxatilis) | FWS-R2-ES-2023-0258
Rio Grande chub (Gila pandora) | FWS-R2-ES-2024-0081
Rio Grande sucker (Pantosteus plebeius, formerly Catostomus plebeius) | FWS-R2-ES-2024-0082

Those descriptions are also available by contacting the appropriate person as specified under FOR FURTHER INFORMATION CONTACT. Please submit any new information, materials, comments, or questions concerning the June 20, 2024, finding to the appropriate person, as specified under FOR FURTHER INFORMATION CONTACT.

Anissa Craghead,
Acting Regulations and Policy Chief, Division of Policy, Economics, Risk Management, and Analytics, Joint Administrative Operations, U.S. Fish and Wildlife Service.

[FR Doc. 2024-13852 Filed 6-25-24; 8:45 am]

BILLING CODE 4333-15-P